FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-24, “FRB—EEO General Files.” BGFRS-24 presently includes self-identification reports of current and former employees regarding race, national origin, sex, and disability and identification by Board staff regarding the race, national origin, and sex for those current and former employees who decline to voluntarily provide the information.

DATES: Comments must be received on or before October 16, 2023. This new system of records will become effective October 16, 2023, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-24 “FRB—EEO General Files,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

In general, all public comments will be made available on the Board's website at https://www.federalreserve.gov/generalinfo/foia/ProposedRegs.cfm as submitted, and will not be modified to remove confidential, contact or any identifiable information. Public comments may also be viewed electronically or in paper in Room M-4365A, 2001 C St. NW, Washington, DC 20551, between 9:00 a.m. and 5:00 p.m. during federal business weekdays.

FOR FURTHER INFORMATION CONTACT: David B. Husband, Senior Counsel, (202) 530-6270, or david.b.husband@frb.gov; Legal Division, Board of Governors of the Federal Reserve System, 20th Street and Constitution Avenue NW, Washington, DC 20551. For users of telephone systems via text telephone (TTY) or any TTY-based Telecommunications Relay Services, please call 711 from any telephone anywhere in the United States.

SUPPLEMENTARY INFORMATION: The Board is in the process of replacing its current enterprise resource planning (ERP) system which will result in changes to the information collected and retained for Board employees. Accordingly, the Board is making minor modifications to the EEO General Files system to reflect such changes. Principally, to better reflect the many dimensions within its workforce, beyond the customary demographics of race/ethnicity, disability, and gender, the Board is broadening its demographic data collection to encompass voluntary disclosure of gender identity and preferred personal pronouns. These new fields will help Board employees personalize their self-identification. The Board is therefore amending the category of records to reflect the inclusion of this information. The Board is removing from the category of records the reference to EEO-related training records which are no longer retained as part of the system of records and the reference to identification by Board staff of disability status for employees who decline to voluntarily provide such information, as disability status would not be inferred via visual observation. The Board will also collect information from applicants, such as self-identification reports, and therefore the Board is amending the category of individuals to include applicants and the category of records to refer to applicants in addition to current and former employees.

The Board is also taking the opportunity to update the system manager, the system location, the authority for the system, the record source categories, and the practices for retention and disposal of records. The Board is also taking the opportunity to update the “Routine Uses” section to incorporate a link to the Board's general routine uses and is amending the system-specific routine use to refer to “workforce” instead of the more archaic term “manpower.” The Board otherwise is not amending or establishing any new routine uses.

The Board is also making technical changes to BGFRS-24 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new fields: “Security Classification” and “History.”

SYSTEM NAME AND NUMBER:

BGFRS-24 “FRB—EEO General Files”.

SECURITY CLASSIFICATION:

Unclassified.

SYSTEM LOCATION:

Board of Governors of the Federal Reserve System, 20th Street and Constitution Avenue NW, Washington, DC 20551. Records are also stored by the Federal Reserve Bank of Minneapolis, located at 90 Hennepin Ave., Minneapolis, MN 55401 and by the Board's contractor, Workday, Inc., located at 6110 Stoneridge Mall Road, Pleasanton, CA 94588.

SYSTEM MANAGER(S):

Sheila Clark, Chief Diversity Officer—Office of Diversity, Equity, and Inclusion (ODE&I), Office of the Chief Operating Officer, Board of Governors of the Federal Reserve System, 20th Street and Constitution Avenue NW, Washington, DC 20551, (202) 452-2883, or sheila.clark@frb.gov.

AUTHORITY FOR MAINTENANCE OF THE SYSTEM:

Rehabilitation Act of 1973 (29 U.S.C. 791); Title VII of the Civil Rights Act (42 U.S.C. 2000e et seq.); Equal Pay Act of 1963 (29 U.S.C. 206); Age Discrimination in Employment Act of 1967 (29 U.S.C. 621); Genetic Information Nondiscrimination Act of 2008 (Pub. L. 110-233); sections 10 and 11 of the Federal Reserve Act (12 U.S.C. 244 and 248); and the Notification and Federal Employee Antidiscrimination and Retaliation Act of 2002 as amended (5 U.S.C. 2301, note).

PURPOSE(S) OF THE SYSTEM:

These records are collected and maintained to assist the Board in carrying out its responsibilities consistent with the Rehabilitation Act of 1973, Title VII of the Civil Rights Act, and other nondiscrimination statutes.

CATEGORIES OF INDIVIDUALS COVERED BY THE SYSTEM:

Applicants for Board employment and current and former Board employees.

CATEGORIES OF RECORDS IN THE SYSTEM:

Self-identification reports of applicants and current and former employees regarding demographics including race, national origin, sex, personal pronouns, gender identity, and disability; per EEOC guidance identification by Board staff regarding the race, national origin, and sex for those current and former employees who decline to voluntarily provide such information.

RECORD SOURCE CATEGORIES:

The information is provided by the individual to whom the record pertains and employees responsible for administering the Board's EEO program or human resource function.

ROUTINE USES OF RECORDS MAINTAINED IN THE SYSTEM, INCLUDING CATEGORIES OF USERS AND PURPOSES OF SUCH USES:

General routine uses A, B, C, D, F, G, I, and J apply to this system. These general routine uses are located at https://www.federalreserve.gov/files/SORN-page-general-routine-uses-of-board-systems-of-records.pdf and are published in the Federal Register at 83 FR 43872 at 43873-74 (August 28, 2018). Records may also be used to disclose information to management as a data source for production of summary descriptive statistics and analytical studies in support of the function for which the records are collected and maintained, or for related personnel management functions or workforce studies and may also be utilized to respond to investigative or legal requests for statistical information (without personal identification of individuals).

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Records can be retrieved by the individual's name.

POLICIES AND PRACTICES FOR RETENTION AND DISPOSAL OF RECORDS:

All records are retained for three years.

ADMINISTRATIVE, TECHNICAL, AND PHYSICAL SAFEGUARDS:

Paper records are secured by lock and key and electronic files are stored on secure servers. The system has the ability to track individual user actions within the system. The audit and accountability controls are based on NIST and Board standards which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY:

This SORN was previously published in the Federal Register at 73 FR 24984 at 25003 (May 6, 2008). The SORN was also amended to incorporate two new routine uses required by OMB at 83 FR 43872 (August 28, 2018).

Board of Governors of the Federal Reserve System.
Ann E. Misback,
Secretary of the Board.

[FR Doc. 2023-19823 Filed 9-13-23; 8:45 am]

BILLING CODE 6210-01-P